DEPARTMENT OF TRANSPORTATION

Federal Aviation Administration

14 CFR Part 39

[Docket No. 2001-NE-26-AD]

RIN 2120-AA64

Airworthiness Directives; General Electric Company (GE) CF6-45, -50, -80A, -80C2, and -80E1 Turbofan Engines

AGENCY: Federal Aviation Administration, DOT.

ACTION: Notice of proposed rulemaking (NPRM).

SUMMARY: The Federal Aviation Administration (FAA) proposes to supersede three existing airworthiness directives (AD's), that are applicable to GE CF6-45, -50, -80A, -80C2, and -80E1 turbofan engines. Those AD's currently require specific handling of the GE CF6 series high pressure compressor rotor (HPCR) stage 3-9 spools during a fluorescent penetrant inspection process, and an initial and repetitive ultrasonic and eddy current inspections of certain HPCR stage 3-9 spools for cracks. This proposal would remove the AD that requires special handling of the spools during fluorescent-penetrant inspection, and would adjust and combine the initial and repetitive inspection requirements, currently listed in two AD's, into one AD for the HPCR stage 3-9 spool. This proposal aligns repetitive inspection requirements with the more stringent initial inspection requirements required by AD 2000-16-12, Amendment 39-11868 (65 FR 50623, August 21, 2000) and terminates AD 95-18-14, Amendment 39-9361 (60 FR 46216, September 6, 1995) that is no longer necessary. The actions specified in the proposed AD are intended to prevent cracks which can cause separation of the HPCR stage 3-9 spool and possible uncontained engine failure.

DATES: Comments must be received by August 12, 2002.

ADDRESSES: Submit comments in triplicate to the Federal Aviation Administration (FAA), New England Region, Office of the Regional Counsel, Attention: Rules Docket No. 2001-NE-26-AD, 12 New England Executive Park, Burlington, MA 01803-5299. Comments may be inspected at this location, by appointment, between 8 a.m. and 4:30 p.m., Monday through Friday, except Federal holidays. Comments may also be sent via the Internet using the following address: “9-ane-adcomment@faa.gov”. Comments sent via the Internet must contain the docket number in the subject line.

The service information referenced in the proposed rule may be obtained from General Electric Company via Lockheed Martin Technology Services, 10525 Chester Road, Suite C, Cincinnati, Ohio 45215, telephone (513) 672-8400, fax (513) 672-8422. This information may be examined, by appointment, at the FAA, New England Region, Office of the Regional Counsel, 12 New England Executive Park, Burlington, MA.

FOR FURTHER INFORMATION CONTACT: Chris Gavriel, Aerospace Engineer, Engine Certification Office, FAA, Engine and Propeller Directorate, 12 New England Executive Park, Burlington, MA 01803-5299; telephone (781) 238-07147; fax (781) 238-7199.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this action may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NE-26-AD.” The postcard will be date stamped and returned to the commenter.

Availability of NPRM's

Any person may obtain a copy of this NPRM by submitting a request to the FAA, New England Region, Office of the Regional Counsel, Attention: Rules Docket No. 2001-NE-26-AD, 12 New England Executive Park, Burlington, MA 01803-5299.

Discussion

On August 29, 1995, the FAA issued AD 95-18-14, Amendment 39-9361 (60 FR 46216, September 6, 1995), to require specific handling of the HPCR 3-9 spool during fluorescent penetrant inspection whenever that inspection is performed on these spools. That action was prompted by a report of an uncontained failure of a General Electric Company (GE) CF6-50 HPCR stage 3-9 spool. This requirement, adopted at that time by that AD, has since been incorporated in General Electric fluorescent penetrant inspection (FPI) Standard Practice 70-32-02.

On October 18, 1999, the FAA issued AD 99-24-15, Amendment 39-11440 (64 FR 66554, November 29, 1999), to require more stringent ultrasonic and eddy current inspection intervals for certain HPCR stage 3-9 spools, added CF6-80E1 engines to the inspection program, added inspection requirements for spools manufactured from 8 inch diameter billet, added inspection requirements for stage 3-5 blade slot bottoms, and added inspection requirements for web and hub-to-web transition areas. Airworthiness Directive 99-24-15 superseded AD 95-23-03, Amendment 39-9423 (60 FR 57803, November 21, 1995). Subsequent to that action, there was an additional HPCR stage 3-9 spool separation in service and a reassessment was made of the adequacy of the existing program in place at that time, to prevent a HPCR stage 3-9 spool cracking and separation. Based on that assessment, the FAA determined there was a need to make changes to AD 99-24-15.

On August 10, 2000, the FAA issued AD 2000-16-12, Amendment 39-11868 (65 FR 50623, August 21, 2000), to require initial ultrasonic and eddy current inspections of certain HPCR stage 3-9 spools for cracks at a further accelerated rate relative to the requirements of AD 99-24-15. AD 2000-16-12 required initial inspection, on a priority basis, of HPCR stage 3-9 spools that had higher probability of failure based on service life. AD 2000-16-12 did not require repetitive inspection requirements. Certain inspection requirements of AD 99-24-15, which are still applicable today, are no longer consistent with that recent corrective action. Therefore, a comprehensive initial and repetitive inspection program is being proposed for the affected 3-9 spools still in service. This proposed rule combines the requirements of AD 99-24-15 and AD 2000-16-12 with the following additional changes:

• Extends the accelerated initial inspection requirements of AD 2000-16-12 beyond July 28, 2001,

• Relaxes initial compliance requirement for the CF6-50 and CF6-80A 13-inch billet spools to make them consistent with 9 and 10-inch billet spools,

• Adds repetitive inspection requirements to the existing one-time inspection requirement for the CF6-80C and -80E series engine spool web and hub-to-web transition areas,

• Replaces engine shop visit inspection threshold limits for certain spools with cyclic limits,

• Adds a time limit for slot bottom inspection for 13-inch billet spools for CF6-50, -80A engines and for 9-inch and 10-inch billet spools for CF6-50, -80A, and -80C engines,

• Adds time limitation for the initial inspection and adds repeat inspection intervals for stage 3-5 slot bottom inspection for certain spools,

• Adds a time limit for one-time inspection of 8-inch billet 2-piece spools, and

• Provides for an alternative modular inspection for the slot bottoms,

The action was prompted by a report of an uncontained failure of an HPCR 3-9 spool. These conditions, if not corrected, could result in separation of the HPCR stage 3-9 spool and a possible uncontained engine failure.

Manufacturer's Service Information

The FAA has reviewed and approved the technical contents of the following GE Alert Service Bulletins (ASB's):

ASB GE CF6-50 72-A1108, Revision 4, dated June 6, 2001

ASB GE CF6-50 72-A1131, Revision 3, dated June 6, 2001

ASB GE CF6-50 72-A1157, Revision 3, dated January 31, 2002

ASB GE CF6-80A 72-A0678, Revision 4, dated June 6, 2001

ASB GE CF6-80A 72-A0691, Revision 4, dated June 6, 2001

ASB GE CF6-80A 72-A0719, Revision 4, dated January 31, 2002

ASB GE CF6-80C2 72-A0812, Revision 3, dated June 6, 2001

ASB GE CF6-80C2 72-A0848, Revision 7, dated June 6, 2001

ASB GE CF6-80C2 72-A0934, Revision 3, dated January 31, 2002

ASB GE CF6-80E1 72-A0135, Revision 2, dated June 6, 2001

ASB GE CF6-80E1 72-A0126, Revision 4 , dated June 6, 2001

ASB GE CF6-80E1 72-A0137, Revision 3, dated January 31, 2002

Those ASB's describe procedures for eddy current and ultrasonic inspections of HPCR stage 3-9 spools for cracks.

FAA's Determination of an Unsafe Condition and Proposed Actions

Since an unsafe condition has been identified that is likely to exist or develop on other GE CF6-45, -50, -80A, -80C2, and -80E1 turbofan engines of this same type design, the proposed AD would supersede AD 95-18-14, AD 99-24-15, and AD 2000-16-12 to require initial and repetitive ultrasonic and eddy current inspections. The actions would be required to be done in accordance with the service bulletin described previously.

Interim Actions

These proposed actions are considered interim actions, and may be changed in future rulemaking actions.

Cost Analysis

There are approximately 3,147 engines of the affected design in the worldwide fleet. The FAA estimates that 1,289 engines installed on airplanes of U.S. registry would be affected by this proposed AD. The FAA also estimates that it would take approximately 238 work hours per engine to perform the proposed actions. The average labor rate is $60 per work hour. Required parts would cost approximately $35,000 per engine. In addition, because of the previous AD actions, the FAA estimates that only 72 percent (928 engines) of the engines installed on airplanes of U.S. registry would be affected. Based on these figures, the total cost of the proposed AD on U.S. operators is estimated to be $45,731,840.

Regulatory Analysis

This proposed rule does not have federalism implications, as defined in Executive Order 13132, because it would not have a substantial direct effect on the States, on the relationship between the national government and the States, or on the distribution of power and responsibilities among the various levels of government. Accordingly, the FAA has not consulted with state authorities prior to publication of this proposed rule.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendments 39-9361 (60 FR 46216, September 6, 1995), 39-11440 (64 FR 66554, November 29, 1999), and 39-11868 (65 FR 50623, August 21, 2000), and by adding a new airworthiness directive:

General Electric Company (GE): Docket No. 2001-NE-26-AD. Supersedes AD 95-18-14, Amendment 39-9361; AD 99-24-15, Amendment 39-11440; and AD 2000-16-12, Amendment 39-11868.

Applicability

This airworthiness directive (AD) is applicable to GE CF6-45, -50, -80A, -80C2, and -80E1 turbofan engines with high pressure compressor rotor (HPCR) stage 3-9 spools with part numbers (P/N's) listed in the following Table 1 installed:

Table 1
Engine model | HPCR stage 3-9 spool P/N
CF6-45/50 Series Engines | 9136M89G02, 9136M89G03, 9136M89G06, 9136M89G07, 9136M89G08, 9136M89G09, 9136M89G17, 9136M89G18, 9136M89G19, 9136M89G21, 9136M89G22, 9136M89G27, 9136M89G29, 9253M85G01, 9253M85G02, 9273M14G01, 9331M29G01.
CF6-80A Series Engines | 9136M89G10, 9136M89G11, 9136M89G20, 9136M89G21, 9136M89G22, 9136M89G27, 9136M89G28.
CF6-80C2 Series Engines | 1333M66G01, 1333M66G03, 1333M66G07, 1333M66G09, 1333M66G10, 1781M52P01, 1781M53G01, 1854M95P01, 1854M95P02, 1854M95P03, 1854M95P04, 1854M95P05, 1854M95P06, 1854M95P07, 1854M95P08, 9380M28P05.
CF6-80E1 Series Engines | 1669M22G01, 1669M22G03, 1782M22G01, 1782M22G02, 1782M22G04.

These engines are installed on, but not limited to, Airbus A300, A310, and A330 series, Boeing 747 and 767 series, and McDonnell Douglas DC-10 and MD-11 series airplanes.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (p) of this AD. The request should include an assessment of the effect of the modification, alteration, or repair on the unsafe condition addressed by this AD; and, if the unsafe condition has not been eliminated, the request should include specific proposed actions to address it.

Compliance

Compliance with this AD is required as indicated, unless already done.

To detect cracks, which can cause separation of the HPCR stage 3-9 spool and possible uncontained engine failure, do the following:

CF6-50 16-inch billet spools

(a) For CF6 HPCR stage 3-9 spool, part numbers (P/N's) 9136M89G02, 9136M89G06, 9253M85G02, 9273M14G01, 9331M29G01, and for P/N 9136M89G08 with serial numbers (SN's) listed in the following Table 2, do the following:

Table 2
MPOE3486 | MPOE3487 | MPOE3488 | MPOE3489 | MPOE3490 | MPOE3491 | MPOE3492
MPOG3832 | MPOG3833 | MPOG3834 | MPOG3835 | MPOG3836 | MPOG3837 | MPOG3838
MPOG3839 | MPOG3840 | MPOG3841 | MPOG3842 | MPOG3843 | MPOG3844 | MPOG3845
MPOG3846 | MPOG3847 | MPOG3848 | MPOG3850 | MPOG3851 | MPOG5228 | MPOG5230
MPOG5231 | MPOG5232 | MPOG6727 | MPOG6728 | MPOG6729 | MPOG6730 | MPOG6731
MPOG6732 | MPOG6733 | MPOG6735 | MPOG6736 | MPOG6738 | MPOG6739 | MPOG6740
MPOG6741 | MPOG6742 | MPOG6743 | MPOG6744 | MPOG6745 | MPOG6746 | MPOG7713
MPOG7714 | MPOG7715 | MPOG7716 | MPOG7717 | MPOG7718 | MPOG7719 | MPOG7720
MPOG7721 | MPOG7722 | MPOG7723 | MPOG7724 | MPOG7725 | MPOG7726 | MPOG7727
MPOG7728 | MPOG7729 | MPOG7730 | MPOG7731 | MPOG7732 | MPOG7733 | MPOG7734
MPOG7735 | MPOG7736 | MPOG7737 | MPOG7738 | MPOG7739 | MPOG7740 | MPOG7741
MPOG7742 | MPOG7743 | MPOG7744 | MPOG7819 | MPOG7820 | MPOG7821 | MPOG7822
MPOG7823 | MPOG7824 | MPOG7825 | MPOG7826 | MPOG7827 | MPOG7828 | MPOG7829
MPOG7830 | MPOG7831 | MPOG7832 | MPOG7833 | MPOG7834 | MPOG7835 | MPOG7836
MPOG7837 | MPOG7838 | MPOG7839 | MPOG8822 | MPOG8823 | MPOG8824 | MPOG8825
MPOG8826 | MPOG8827 | MPOG8828 | MPOG8829 | MPOG8830 | MPOG8831 | MPOG8832
MPOG8833 | MPOG8834 | MPOG8835 | MPOG8836 | MPOG8837 | MPOG9185 | MPOG9186
MPOH0289 | MPOH0290 | MPOH0291 | MPOH0292 | MPOH0293 | MPOH0294 | MPOH0295
MPOH0296 | MPOH0297 | MPOH0298 | MPOH0299 | MPOH0300 | MPOH0301 | MPOH0302
MPOH0303 | MPOH0304 | MPOH0305 | MPOH1805 | MPOH2040 | MPOH2041 | MPOH2042
MPOH2043 | MPOH2044 | MPOH2045 | MPOH2046 | MPOH2047 | MPOH2048 | MPOH2049
MPOH2050 | MPOH2051 | MPOH2052 | MPOH2053 | MPOH2054 | MPOH2055 | MPOH2056
MPOH2057 | MPOH2058 | MPOH2059 | MPOH2060 | MPOH2061 | MPOH2062 | MPOH2829
MPOH2830 | MPOH2831 | MPOH2832 | MPOH2833 | MPOH2834 | MPOH2835 | MPOH2836
MPOH2837 | MPOH2838 | MPOH2839 | MPOH2840 | MPOH2841 | MPOH2842 | MPOH2843
MPOH2844 | MPOH2845 | MPOH2846 | MPOH2847 | MPOH2848 | MPOH2849 | MPOH2850
MPOH2851 | MPOH2852 | MPOH2853 | MPOH2854 | MPOH2855 | MPOH2856 | MPOH2857
MPOH2858 | MPOH4307 | MPOH4308 | MPOH4309 | MPOH4310 | MPOH4311 | MPOH4312
MPOH4313 | MPOH5277 | MPOH5278 | MPOH5279 | MPOH5280 | MPOH5281 | MPOH5282
MPOH5283 | MPOH5520 | MPOH5530 | MPOH5531 | MPOH5532 | MPOH5533 | MPOH5534
MPOH5535 | MPOH5536 | MPOH5537 | MPOH5538 | MPOH5539 | MPOH5540 | MPOH5541
MPOH5542 | MPOH5543 | MPOH5544 | MPOH5545 | MPOH5546 | MPOH5547 | MPOH5548
MPOH5549 | MPOH5550 | MPOH5551 | MPOH5552 | MPOH5553 | MPOH5554 | MPOH7020
MPOH7021 | MPOH7022 | MPOH7023 | MPOH7024 | MPOH7025 | MPOH7026 | MPOH7027
MPOH7028 | MPOH7030 | MPOH7960 | MPOH7965 | MPOH7966 | MPOH7967 | MPOH7968
MPOH7969 | MPOH7970 | MPOH7971 | MPOH7972 | MPOH7973 | MPOH7974 | MPOH7975
MPOH8638 | MPOH8639 | MPOH8640 | MPOH8641 | MPOH8642 | MPOH8643 | MPOH8644
MPOH8645 | MPOH8646 | MPOH8647 | MPOH8648 | MPOH8649 | MPOH8650 | MPOH8651
MPOH8652 | MPOH8653 | MPOH8654 | MPOH8655 | MPOH8656 | MPOH8657 | MPOH8658
MPOH8659 | MPOH8677 | MPOH8678 | MPOH8679 | MPOH8680 | MPOH8682 | MPOH8683
MPOH8684 | MPOJ1796 | MPOJ1797 | MPOJ1798 | MPOJ1799 | MPOJ1800 | MPOJ1801
MPOJ1803 | MPOJ1804 | MPOJ1806 | MPOJ1930 | MPOJ1931 | MPOJ1932 | MPOJ1933
MPOJ1934 | MPOJ1935 | MPOJ1936 | MPOJ1938 | MPOJ1939 | MPOJ1940 | MPOJ1941
MPOJ1942 | MPOJ1943 | MPOJ1944 | MPOJ1945 | MPOJ1946 | MPOJ1947 | MPOJ1948
MPOJ1949 | MPOJ1950 | MPOJ1951 | MPOJ1953 | MPOJ1954 | MPOJ1955 | MPOJ1956
MPOJ1957 | MPOJ1958 | MPOJ2420 | MPOJ2421 | MPOJ2422 | MPOJ2423 | MPOJ2424
MPOJ2425 | MPOJ2426 | MPOJ2427 | MPOJ2428 | MPOJ2429 | MPOJ2430 | MPOJ2431
MPOJ2432 | MPOJ2433 | MPOJ2434 | MPOJ2435 | MPOJ2436 | MPOJ2437 | MPOJ2438
MPOJ2439 | MPOJ2440 | MPOJ2441 | MPOJ2442 | MPOJ2443 | MPOJ2444 | MPOJ2445
MPOJ2446 | MPOJ2447 | MPOJ2448 | MPOJ2449 | MPOJ2450 | MPOJ4173 | MPOJ4174
MPOJ5185 | MPOJ5186 | MPOJ6035 | MPOJ6036 | MPOJ6039 | MPOJ6040 | MPOJ6041
MPOJ6042 | MPOJ6043 | MPOJ6044 | MPOJ6045 | MPOJ6046 | MPOJ6047 | MPOJ6048
MPOJ6049 | MPOJ6050 | MPOJ6051 | MPOJ6052 | MPOJ6053 | MPOJ6054 | MPOJ6055
MPOJ6056 | MPOJ6057 | MPOJ6058 | MPOJ6059 | MPOJ6060 | MPOJ6061 | MPOJ6062
MPOJ6063 | MPOJ6064 | MPOJ6065 | MPOJ6066 | MPOJ6067 | MPOJ6068 | MPOJ6500
MPOJ6501 | MPOJ6502 | MPOJ6503 | MPOJ6505 | MPOJ6506 | MPOJ6507 | MPOJ6508
MPOJ6509 | MPOJ6510 | MPOJ6511 | MPOJ6512 | MPOJ6513 | MPOJ6514 | MPOJ6515
MPOJ6516 | MPOJ6517 | MPOJ7632 | MPOJ7633 | MPOJ7634 | MPOJ7635 | MPOJ7636
MPOJ7637 | MPOJ7638 | MPOJ7639 | MPOJ7640 | MPOJ7641 | MPOJ7642 | MPOJ7643
MPOJ8046 | MPOJ8047 | MPOJ8048 | MPOJ8049 | MPOJ8050 | MPOJ8051 | MPOJ9308
MPOJ9309 | MPOJ9310 | MPOJ9311 | MPOJ9312 | MPOJ9313 | MPOJ9314 | MPOJ9315
MPOK1233 | MPOK1234 | MPOK1235 | MPOK1236 | MPOK1237 | MPOK1238 | MPOK1239
MPOK1240 | MPOK1824 | MPOK1825 | MPOK1826 | MPOK1827 | MPOK1828 | MPOK1829
MPOK1830 | MPOK1831 | MPOK1832 | MPOK2694 | MPOK2695 | MPOK3067 | MPOK3068
MPOK3069 | MPOK3070 | MPOK3071 | MPOK4659 | MPOK4660 | MPOK4661 | MPOK4662
MPOK4663 | MPOK4664 | MPOK4665 | MPOK4666 | MPOK4667 | MPOK5082 | MPOK5083
MPOK5084 | MPOK5085 | MPOK5086 | MPOK5087 | MPOK5088 | MPOK5520 | MPOK5521
MPOK5522 | MPOK5955 | MPOK5956 | MPOK5957 | MPOK5958 | MPOK5959 | MPOK5960
MPOK5961 | MPOK5962 | MPOK5963 | MPOK5964 | MPOK6247 | MPOK6248 | MPOK6249
MPOK6250 | MPOK6251 | MPOK6252 | MPOK6253 | MPOK6254 | MPOK6255 | MPOK6256
MPOK6257 | MPOK6715 | MPOK6716 | MPOK6823 | MPOK6824 | MPOK6825 | MPOK6826
MPOK6827 | MPOK6828 | MPOK6829 | MPOK6830 | MPOK6831 | MPOK7226 | MPOK7227
MPOK7228 | MPOK7229 | MPOK7230 | MPOK7231 | MPOK7232 | MPOK7233 | MPOK7234
MPOM2128 | MPOM2129 | MPOM2130 | MPOM2131 | MPOM2132 | MPOM2133 | MPOM2134
MPOM2135 | MPOM2136 | MPOM2137 | MPOM2138 | MPOM2357 | MPOM2358 | MPOM2359
MPOM2360 | MPOM2361 | MPOM2362 | MPOM2363 | MPOM2364 | MPOM2365 | MPOM2366
MPOM2461 | MPOM2462 | MPOM5521 | MPOM5522 | MPOM5523 | MPOM5524 | MPOM5525
MPOM5526 | MPOM5527 | MPOM5528 | MPOM5529 | MPOM5530 | MPOM5531 | MPOM5532
MPOM5533 | MPOM5534 | MPOM5535 | MPOM5536 | MPOM5537 | MPOM6151 | MPOM6152
MPOM6153 | MPOM6154 | MPOM6155 | MPOM6156 | MPOM6157 | MPOM6158 | MPOM6159
MPOM6160 | MPOM6161 | MPOM6162 | MPOM7087 | MPOM7088 | MPOM7089 | MPOM7091
MPOM7092 | MPOM7093 | MPOM7094 | MPOM7095 | MPOM7096 | MPOM7097 | MPOM7098
MPOM7099 | MPOM7100 | MPOM7101 | MPOM7102 | MPOM7103 | MPOM7104 | MPOM7105
MPOM7106 | MPOM7107 | MPOM7108 | MPOM7109 | MPOM8297 | MPOM8298 | MPOM8299
MPOM8300 | MPOM8301 | MPOM8302 | MPOM9246 | MPOM9257 | MPOM9258 | MPOM9259
MPOM9260 | MPOM9261 | MPOM9262 | MPOM9265 | MPOM9721 | MPOM9722 | MPOM9723
MPON0051 | MPON0052 | MPON0053 | MPON0055 | MPON0056 | MPON0057 | MPON0058
MPON0059 | MPON0060 | MPON0061 | MPON0062 | MPON0063 | MPON0064 | MPON0065
MPON0066 | MPON0067 | MPON0068 | MPON0069 | MPON0073 | MPON0074 | MPON0075
MPON0076 | MPON1077 | MPON1078 | MPON1079 | MPON1080 | MPON1081 | MPON1082
MPON1084 | MPON1085 | MPON1086 | MPON1087 | MPON1088 | MPON1089 | MPON1090
MPON1091 | MPON1092 | MPON1093 | MPON1094 | MPON1095 | MPON1096 | MPON1097
MPON1098 | MPON1099 | MPON1100 | MPON1642 | MPON4250 | MPON4252 | MPON4254
MPON4255 | MPON4256

Initial Inspection

(1) If the spool has not already been inspected using one of the alert service bulletins (ASB's) or service bulletins (SB's) listed in Column A of the following Table 3; OR a combination of one procedure from Column B AND one from Column C; OR a combination of one procedure from Column D AND one from Column E, inspect hub and bore in accordance with alert service bulletin (ASB) CF6-50 72-A1108, Revision 4, dated June 6, 2001, and the following compliance times:

Table 3
CF6-50 SB No.: Column A | Procedures (70-32-XX) in standard practices manual GEK9250: Column B | Procedures (70-32-XX) in standard practices manual GEK9250: Column C | Procedures (70-32-XX) in standard practices manual GEK9250: Column D | Procedures (70-32-XX) in standard practices manual GEK9250: Column E
SB 72-888, Revision 3, dated January 31, 1991 | 70-32-09, Revision 71, dated October 1, 1995 | 70-32-10, Revision 71, dated October 1, 1995 | 70-32-13, Temporary Revision (TR), 70-25, dated August 26, 1996 | 70--32-14, TR, 70-26, dated August 26, 1996.
SB 72-888, Revision 4, dated March 28, 1991 | 70-32-09, Revision 72, dated November 15, 1996 | 70-32-10, Revision 72, dated November 15, 1996 | 70-32-13, Revision 72, dated November 15, 1996 | 70-32-14, Revision 72, dated November 15, 1996.
SB 72-888, Revision 5, dated November 7, 1994 | 70-32-09, Revision 74, dated May 1, 1998 | 70-32-10, Revision 74, dated May 1, 1998 | 70-32-13, Revision 73, dated November 1, 1997 | 70-32-14, Revision 73, dated November 1, 1997.
SB 72-888, Revision 6, dated December 22, 1995 |  | 70-32-10, Revision 75, dated December 15, 1998 | 70-32-13, Revision 75, dated December 15, 1998 | 70-32-14, Revision 75, dated December 15, 1998.
SB 72-1000, Original, dated December 14, 1990 |  |  | 70-32-13, TR 70-41, dated February 10, 1999 | 70-32-14, TR 70-42 dated February 10, 1999.
SB 72-1000, Revision 1, dated March 28, 1991 |  |  | 70-32-13, Revision 76, dated May 15, 1999 | 70-32-14, Revision 76, dated May 15, 1999.
SB 72-1000, Revision 2, dated September 9, 1993 |  |  | 70-32-17, TR 70-39, dated December 15, 1998 | 70-32-18, TR 70-40, dated December 15, 1998.
SB 72-1000, Revision 3, dated December 22, 1995 |  |  | 70-32-17, Revision 76, dated May 15, 1999 | 70-32-18, Revision 76, dated May 15, 1999.
SB 72-1108, Original, dated November 6, 1995 |  |  | 70-32-17, TR 70-47, dated October 28, 1999 | 70-32-18, TR 70-48, dated October 28, 1999.
SB 72-1108, Revision 1, dated July 29, 1996 |  |  |  |
ASB 72-A1108, Revision 2, dated October 28, 1999 |  |  |  |
ASB 72-A1108, Revision 3, dated November 12, 1999 |  |  |  |
ASB 72-A1108, Revision 4, dated June 6, 2001 |  |  |  |

(i) For spools with greater than 3,500 cycles-since-new (CSN) on the effective date of this AD, inspect before further flight.

(ii) For spools with 3,500 or fewer CSN, on the effective date of this AD, inspect at the first piece-part exposure (PPE) after 1,000 CSN or by 3,500 CSN, whichever occurs earlier.

(2) For spools that have not been inspected in accordance with the requirements of ASB CF6-50 72-A1131, Revision 3, dated June 6, 2001, or an earlier revision of ASB 72-A1131 or SB 72-1131, inspect the web and hub-to-web transition areas in accordance with the requirements of ASB 72-A1131, Revision 3, dated June 6, 2001, at the first PPE after 1,000 CSN, but not later than 4,000 additional cycles in-service (CIS) after the effective date of this AD.

(3) For spools that have not been inspected in accordance with the requirements of ASB CF6-50 72-A1157, Revision 3, dated January 31, 2002, or an earlier revision of ASB 72-A1157, inspect the stage 3-5 dovetail slot bottoms in accordance with the requirements of ASB 72-A1157, Revision 3 dated January 31, 2002, at the earliest of:

(i) The first PPE after 1000 CSN, or

(ii) The first HPC rotor exposure after 1000 CSN, or

(iii) The next required inspection to ASB72-A1108, Revision 4, dated June 6, 2001.

Repetitive Inspection

(4) For spools that have already been inspected using one of the ASB's or SB's listed in Column A of Table 3; OR a combination of one procedure from Column B AND one from Column C; OR a combination of one procedure from Column D AND one from Column E, reinspect the hub and bore in accordance with the requirements of ASB 72-A1108, Revision 4, dated June 6, 2001, and the stage 3-5 dovetail slot bottoms in accordance with ASB 72-A1157, Revision 3, dated January 31, 2002, at the earliest of:

(i) Each PPE with more than 1,000 cycles-since-last-inspection (CSLI) and 3,500 CSN, or

(ii) From July 29, 2001 through January 27, 2003, before the cycle limits of Table 4.

Table 4
CSN at last inspection | Reinspect by
(A) 6,000 or fewer CSN | 3,500 CSLI
(B) 6,001 to 7,000 CSN | 9,500 CSN
(C) 7,001 to 8,000 CSN | 2,500 CSLI
(D) 8,001 to 8,500 CSN | 10,500 CSN
(E) 8,501 or more CSN | 2,000 CSLI

(iii) After January 27, 2003, before the cycle limits of Table 5.

Table 5
CSN at last inspection | Reinspect by
(A) 5,000 or fewer CSN | 3,500 CSLI
(B) 5,001 to 5,500 CSN | 8,500 CSN
(C) 5,501 to 6,500 CSN | 3,000 CSLI
(D) 6,501 to 7,000 CSN | 9,500 CSN
(E) 7,001 to 8,000 CSN | 2,500 CSLI
(F) 8,001 to 8,500 CSN | 10,500 CSN
(G) 8,501 or more CSN | 2,000 CSLI

(5) If inspection findings equal or exceed the reject limits established by ASB 72-A1108, Revision 4, dated June 6, 2001, or ASB 72-A1131, Revision 3, dated June 6, 2001, or ASB 72-A1157, Revision 3, dated January 31, 2002; replace spool before further flight.

CF6-50 13-inch billet spools

(b) For CF6 HPC Rotor Stage 3-9 Spool, P/N's 9136M89G03, 9136M89G07, 9136M89G09, 9136M89G17, 9136M89G18, 9253M85G01, and 9136M89G08 with serial numbers that are not listed in Table 2, do the following:

Initial Inspection

(1) If the spool has greater than 7,000 CSN on the effective date of this AD and has not already been inspected using one of the ASB's or SB's listed in Column A of Table 3; OR a combination of one procedure from Column B AND one from Column C; OR a combination of one procedure from Column D AND one from Column E, inspect hub and bore in accordance with ASB CF6-50 72-A1108, Revision 4, dated June 6, 2001 before further flight.

(2) If the spool has 7,000 or fewer CSN on the effective date of this AD and has not already been inspected using one of the ASB's or SB's listed in Column A of Table 3; OR a combination of one procedure from Column B AND one from Column C; OR a combination of one procedure from Column D AND one from Column E, inspect hub and bore in accordance with ASB CF6-50 72-A1108, Revision 4, dated June 6, 2001, by the earliest of:

(i) The first PPE after 1,000 CSN, or

(ii) The first engine shop visit (ESV) after 4,000 CSN, or

(iii) From July 29, 2001, through January 27, 2003, before 7,000 CSN, and after January 27, 2003, before 4,000 CSN.

(3) For spools that have not been inspected in accordance with the requirements of ASB 72-A1131, Revision 3, dated June 6, 2001, or an earlier revision of ASB 72-A1131, or SB 72-1131, inspect the web and hub-to-web transition areas in accordance with the requirements of ASB 72-A1131, Revision 3, dated June 6, 2001, by the earlier of:

(i) The first PPE after 1,000 CSN, or

(ii) Within 4,000 additional CIS after the effective date of this AD.

(4) For spools that have not been inspected in accordance with the requirements of ASB 72-A1157, Revision 3, dated January 31, 2002, or an earlier revision of ASB 72-A1157, inspect the stage 3-5 dovetail slot bottoms in accordance with the requirements of ASB 72-A1157, Revision 3, dated January 31, 2002, by the earlier of:

(i) The first PPE after 1,000 CSN, or

(ii) Within 4,000 additional CIS after the effective date of this AD.

Repetitive Inspection

(5) For spools that have already been inspected using one of the ASB's or SB's listed in Column A of Table 3; OR a combination of one procedure from Column B AND one from Column C; OR a combination of one procedure from Column D AND one from Column E, reinspect the hub and bore in accordance with the requirements of ASB 72-A1108, Revision 4, dated June 6, 2001, at the earliest of:

(i) Each PPE with more than 1,000 CSLI and 4,000 CSN, or

(ii) Each ESV with more than 2,000 CSLI and 4,000 CSN, or

(iii) Before 4,000 CSLI.

(6) If inspection findings equal or exceed the reject limits established by ASB 72-A1108, Revision 4, dated June 6, 2001; or ASB 72-A1131, Revision 3, dated June 6, 2001; or ASB 72-A1157, Revision 3, dated January 31, 2002; replace spool before further flight.

CF6-50 9&10-inch billet spools

(c) For CF6 HPCR stage 3-9 spool, P/N's 9136M89G19, 9136M89G21, 9136M89G22 and 9136M89G27, do the following:

Initial Inspection

(1) If the spool has greater than 7,000 CSN on the effective date of this AD and has not already been inspected using one of the ASB's or SB's listed in Column A of Table 3; OR a combination of one procedure from Column B and one from Column C; OR a combination of one procedure from Column D and one from Column E, inspect the hub and bore in accordance with ASB CF6-50 72-A1108, Revision 4, dated June 6, 2001 before further flight.

(2) If the spool has 7,000 or fewer CSN on the effective date of this AD, and has not already been inspected using one of the ASB's or SB's listed in Column A of Table 3; OR a combination of one procedure from Column B and one from Column C; OR a combination of one procedure from Column D and one from Column E, inspect the hub and bore in accordance with ASB CF6-50 72-A1108, Revision 4, dated June 6, 2001, at the earliest of:

(i) The first PPE after 1,000 CSN, or

(ii) The first ESV after 3,000 CSN, or

(iii) From July 29, 2001 through January 27, 2003, before 7,000 CSN, and after January 27, 2003, before 3,500 CSN.

(3) For spools that have not been inspected in accordance with the requirements of ASB 72-A1131, Revision 3, dated June 6, 2001, or an earlier revision of ASB 72-A1131, or SB 72-1131, inspect the web and hub-to-web transition areas in accordance with the requirements of ASB 72-A1131, Revision 3, dated June 6, 2001, at the earlier of:

(i) The first PPE after 1,000 CSN, or

(ii) Within 4,000 additional CIS after the effective date of this AD.

(4) For spools that have not been inspected in accordance with the requirements of ASB 72-A1157, Revision 3, dated January 31, 2002, or an earlier revision of ASB 72-A1157, inspect the stage 3-5 dovetail slot bottom in accordance with the requirements of ASB 72-A1157, Revision 3, dated January 31, 2002, at the earlier of:

(i) The first PPE after 1,000 CSN, or

(ii) Within 4,000 additional CIS after the effective date of this AD.

Repetitive Inspection

(5) For spools that have already been inspected using one of the ASB's or SB's listed in Column A of Table 3; OR a combination of one procedure from Column B and one from Column C; OR a combination of one procedure from Column D and one from Column E, reinspect the hub and bore in accordance with the requirements of ASB 72-A1108, Revision 4, dated June 6, 2001, at the earliest of:

(i) Each PPE with more than 1,000 CSLI and 3,500 CSN, or

(ii) From July 29, 2001, through January 27, 2003, before the cycle limits of the following Table 6, or:

Table 6
CSN at last inspection | Reinspect by
(A) 3,500 or fewer CSN | 7,000 CSN
(B) 3,501 to 6,000 CSN | 3,500 CSLI
(C) 6,001 to 7,000 CSN | 9,500 CSN
(D) 7,001 to 8,000 CSN | 2,500 CSLI
(E) 8,001 to 8,500 CSN | 10,500 CSN
(F) 8,501 or more CSN | 2,000 CSLI

(iii) After January 27, 2003, before the cycle limits of Table 5.

(6) If inspection findings equal or exceed the reject limits established by ASB 72-A1108, Revision 4, dated June 6, 2001; or ASB 72-A1131, Revision 3, dated June 6, 2001; or ASB 72-A1157, Revision 3, dated January 31, 2002; replace spool before further flight.

(7) After the effective date of this AD, do not install any engine that has an HPCR stage 3-9 spool, P/N's 9136M89G19, 9136M89G21, 9136M89G22 and 9136M89G27, installed where the spool has 10,500 or more CSN.

CF6-508-inch billet 2-piece spools

(d) For CF6 HPCR stage 3-9 spool, P/N 9136M89G29, do the following:

(1) If the spool has not already been inspected using one of the ASB's or SB's listed in Column A of Table 3; OR a combination of one procedure from Column B and one from Column C; OR a combination of one procedure from Column D and one from Column E, inspect hub and bore in accordance with ASB CF6-50 72-A1108, Revision 4, dated June 6, 2001, at the earlier of:

(i) The first PPE after 1,000 CSN, or

(ii) The first ESV after 6,000 CSN.

(2) For spools that have not been inspected in accordance with the requirements of ASB 72-A1131, Revision 3, dated June 6, 2001, or an earlier revision of ASB 72-A1131, or SB 72-1131, inspect the web and hub-to-web transition areas in accordance with the requirements of ASB 72-A1131, Revision 3, dated June 6, 2001, at the earlier of:

(i) The first PPE after 1,000 CSN, or

(ii) The first ESV after 6,000 CSN.

(3) For spools that have not been inspected in accordance with the requirements of ASB 72-A1157, Revision 3, dated January 31, 2002, or an earlier revision of ASB 72-A1157, inspect the stage 3-5 dovetail slot bottom in accordance with the requirements of ASB 72-A1157, Revision 3, dated January 31, 2002, at the earlier of:

(i) The first PPE after 1,000 CSN, or

(ii) The first ESV after 6,000 CSN.

(4) If inspection findings equal or exceed the reject limits established by ASB 72-A1108, Revision 4, dated June 6, 2001; or ASB 72-A1131, Revision 3, dated June 6, 2001; or ASB 72-A1157, Revision 3, dated January 31, 2002; replace spool before further flight.

CF6-80A 16-inch billet spools

(e) For CF6 HPCR stage 3-9 spool, P/N's 9136M89G10 with SN's MPOM0054, MPOM7090, MPOM8303, MPOM8304, MPOM9263, MPOM9264, MPON0054, MPON0071, MPON0072, MPON1643, MPON4251, or MPON4253, do the following:

Initial Inspection

(1) If the spool has not already been inspected using one of the ASB's or SB's listed in Column A of the following Table 7; OR a combination of one procedure from Column B and one from Column C; OR a combination of one procedure from Column D and one from Column E, inspect hub and bore in accordance with ASB 72 A0678, Revision 4, dated June 6, 2001, and the following compliance times:

Table 7
CF6-80A SB No.: Column A | Procedures (70-32-XX) in standard practices manual GEK9250: Column B | Procedures (70-32-XX) in standard practices manual GEK9250: Column C | Procedures (70-32-XX) in standard practices manual GEK9250: Column D | Procedures (70-32-XX) in standard practices manual GEK9250: Column E
SB 72-500, Revision 3, dated March 19, 1991 | 70-32-09, Revision 71, dated October 1, 1995 | 70-32-10, Revision 71, dated October 1, 1995 | 70-32-13, Temporary Revision (TR), 70-25, dated August 26, 1996 | 70-32-14, TR 70-26, dated August 26, 1996
SB 72-500, Revision 4, dated July 1, 1991 | 70-32-09, Revision 72, dated November 15, 1996 | 70-32-10, Revision 72, dated November 15, 1996 | 70-32-13, Revision 72, dated November 15, 1996 | 70-32-14, Revision 72, dated November 15, 1996
SB 72-500, Revision 5, dated November 7, 1994 | 70-32-09, Revision 74, dated May 1, 1998 | 70-32-10, Revision 74, dated May 1, 1998 | 70-32-13, Revision 73, dated November 1, 1997 | 70-32-14, Revision 73, dated November 1, 1997
SB 72-500, Revision 6, dated December 22, 1995 |  | 70-32-10, Revision 75, dated December 15, 1998 | 70-32-13, Revision 75, dated December 15, 1998 | 70-32-14, Revision 75, dated December 15, 1998
SB 72-583, Original, dated December 20, 1990 |  |  | 70-32-13, TR 70-41, dated February 10, 1999 | 70-32-14, TR 70-42, dated February 10, 1999
SB 72-583, Revision 1, dated March 18, 1991 |  |  | 70-32-13, Revision 76, dated May 15, 1999 | 70-32-14, Revision 76, dated May 15, 1999
SB 72-583, Revision 2, dated July 15, 1991 |  |  | 70-32-17, TR 70-39, dated December 15, 1998 | 70-32-18, TR 70-40, dated December 15, 1998
SB 72-583, Revision 3, dated July 24, 1991 |  |  | 70-32-17, Revision 76, dated May 15, 1999 | 70-32-18, Revision 76, dated May 15, 1999
SB 72-583, Revision 4, dated September 15, 1993 |  |  | 70-32-17, TR 70-47, dated October 28, 1999 | 70-32-18, TR 70-48, dated October 28, 1999
SB 72-583, Revision 5, dated December 22, 1995
SB 72-678, Original, dated November 6, 1995
SB 72-678, Revision 1, dated July 29, 1996
ASB 72-A678, Revision 2, dated October 28, 1999
ASB 72-A678, Revision 3, dated November 12, 1999
ASB 72-A0678, Revision 4, dated June 6, 2001

(i) For spools with greater than 3,500 CSN on the effective date of this AD, inspect before further flight.

(ii) For spools with 3,500 or fewer CSN on the effective date of this AD, inspect at the first PPE after 1,000 CSN or within 3,500 CSN, whichever occurs earlier.

(2) For spools that have not been inspected in accordance with the requirements of ASB 72-A0691, Revision 4, dated June 6, 2001, or an earlier revision of ASB 72-A0691, or SB 72-0691, inspect the web and hub-to-web transition areas in accordance with the requirements of ASB 72-A0691, Revision 4, dated June 6, 2001, at the earlier of:

(i) The first PPE after 1,000 CSN, or

(ii) Within 4,000 additional CIS accumulated after the effective date of this AD.

(3) For spools that have not been inspected in accordance with the requirements of ASB 72-A0719, Revision 4, dated January 31, 2002, or an earlier revision of ASB 72-A0719, inspect thestage 3-5 dovetail slot bottom in accordance with the requirements of ASB 72-A0719, Revision 4, dated January 31, 2002, at the earliest of:

(i) The first PPE after 1,000 CSN, or

(ii) The first HPCR exposure after 1,000 CSN, or

(iii) The next required inspection to ASB 72-A0678, Revision 4, dated June 6, 2001.

Repetitive Inspections

(4) For spools that have already been inspected using one of the ASB's or SB's listed in Column A of Table 7; OR a combination of one procedure from Column B AND one from Column C; OR a combination of one procedure from Column D AND one from Column E, reinspect the hub and bore in accordance with the requirements of ASB 72-A0678, Revision 4, dated June 6, 2001; and the dovetail slot bottoms in accordance with the requirements of ASB 72-A0719, Revision 4, dated January 31, 2002, at the earliest of:

(i) Each PPE with more than 1,000 CSLI and 3,500 CSN, or

(ii) From July 29, 2001 through January 27, 2003 before the cycle limits of Table 4, or

(iii) After January 27, 2003, before the cycle limits of Table 5.

(5) If inspection findings equal or exceed the reject limits established by ASB 72-A0678, Revision 4, dated June 6, 2001; or ASB 72-A0691, Revision 4, dated June 6, 2001; or ASB A0719, Revision 4, dated January 31, 2002; replace spool before further flight.

(6) After the effective date of this AD, do not install any engine that has an HPCR stage 3-9 spool P/N 9136M89G10 with serial numbers (SN's) MPOM0054, MPOM7090, MPOM8303, MPOM8304, MPOM9263, MPOM9264, MPON0054, MPON0071, MPON0072, MPON1643, MPON4251, or MPON4253, installed where the spool has 10,500 or more CSN.

CF6-80A 13-inch billet spools

(f) For all other CF6 HPCR stage 3-9 spools, P/N 9136M89G10, with SN's that are not listed in paragraph (e) of this AD, and P/N 9136M89G11, do the following:

Initial Inspection

(1) If the spool has greater than 7,000 CSN on the effective date of this AD and has not already been inspected using one of the ASB's or SB's listed in Column A of Table 7; OR a combination of one procedure from Column B AND one from Column C; OR a combination of one procedure from Column D AND one from Column E, inspect hub and bore in accordance with ASB CF6-50 72-A0678, Revision 4, dated June 6, 2001 before further flight.

(2) If the spool has 7,000 or fewer CSN on the effective date of this AD and has not already been inspected using one of the ASB's or SB's listed in Column A of Table 7; OR a combination of one procedure from Column B AND one from Column C; OR a combination of one procedure from Column D AND one from Column E, inspect hub and bore in accordance with ASB CF6-50 72-A0678, Revision 4, dated June 6, 2001, at the earliest of:

(i) The first PPE after 1,000 CSN, or

(ii) The first ESV after 5,000 CSN or

(iii) From July 29, 2001, through January 27, 2003 before 7,000 CSN, and after January 27, 2003, before 5,000 CSN.

(3) For spools that have not been inspected in accordance with the requirements of ASB 72-A0691, Revision 4, dated June 6, 2001, or an earlier revision of ASB 72-A0691, or SB 72-0691, inspect the web and hub-to-web transition areas in accordance with the requirements of ASB 72-A0691, Revision 4, dated June 6, 2001, at the earlier of:

(i) The first PPE after 1,000 CSN, or

(ii) Within 4,000 additional CIS after the effective date of this AD.

(4) For spools that have not been inspected in accordance with the requirements of ASB 72-A0719, Revision 4, dated January 31, 2002, or an earlier revision of ASB 72-A0719 inspect the dovetail slot bottom in accordance with the requirements of ASB 72-A0719, Revision 4, dated January 31, 2002, at the earlier of:

(i) The first PPE after 1,000 CSN, or

(ii) Within 4,000 additional CIS after the effective date of this AD.

Repetitive Inspection

(5) Spools installed in CF6-80A1 and CF6-80A3 engines that were inspected using one of the ASB's or SB's listed in Column A of Table 7; OR a combination of one procedure from Column B AND one from Column C; OR a combination of one procedure from Column D AND one from Column E, inspect hub and bore in accordance with alert ASB CF6-50 72-A0678, Revision 4, dated June 6, 2001, at the earliest of:

(i) Each PPE with more than 1,000 CSLI and 5,000 CSN, or

(ii) Each ESV with more than 2,000 CSLI and 5,000 CSN, or

(iii) Within 4,000 CSLI and more than 5,000 CSN.

(6) Spools installed in CF6-80A and CF6-80A2 engines previously inspected using one of the ASB's or SB's listed in Column A of Table 7; OR a combination of one procedure from Column B AND one from Column C; OR a combination of one procedure from Column D AND one from Column E, inspect hub and bore in accordance with ASB CF6-50 72-A0678, Revision 4, dated June 6, 2001, at the earliest of:

(i) Each PPE with more than 1,000 CSLI and 5,000 CSN, or

(ii) Each ESV with more than 1,500 CSLI and 5,000 CSN, or

(iii) Within 4,000 CSLI and more than 5,000 CSN.

(7) If inspection findings equal or exceed the reject limits established by ASB 72-A0678, Revision 4, dated June 6, 2001; or ASB 72-A0691, Revision 4, dated June 6, 2001; or ASB A0719, Revision 4, dated January 31, 2002; replace spool before further flight.

CF6-80A 9 and 10-inch billet spools

(g) For CF6 HPCR stage 3-9 spools, P/N's 9136M89G20, 9136M89G21, 9136M89G22 and 9136M89G27, do the following:

Initial Inspection

(1) If the spool has greater than 7,000 CSN on the effective date of this AD and has not already been inspected using one of the ASB's or SB's listed in Column A of Table 7; OR a combination of one procedure from Column B AND one from Column C; OR a combination of one procedure from Column D AND one from Column E, inspect hub and bore in accordance with ASB CF6-50 72-A0678, Revision 4, dated June 6, 2001 before further flight.

(2) If the spool has 7,000 or fewer CSN on the effective date of this AD and has not already been inspected using one of the ASB's or SB's listed in Column A of Table 7; OR a combination of one procedure from Column B AND one from Column C; OR a combination of one procedure from Column D AND one from Column E, inspect hub and bore in accordance with ASB CF6-50 72-A0678, Revision 4, dated June 6, 2001, at the earliest of:

(i) The first PPE after 1,000 CSN, or

(ii) The first ESV after 3,000 CSN or

(iii) From July 29, 2001, through January 27, 2003, before 7,000 CSN, and after January 27, 2003, before 5,000 CSN.

(3) For spools that have not been inspected in accordance with the requirements of ASB 72-A0691, Revision 4, dated June 6, 2001, or an earlier revision of ASB 72-A0691, or SB 72-0691, inspect the web and hub-to-web transition areas in accordance with the requirements of ASB 72-A0691, Revision 4, dated June 6, 2001, at the earlier of:

(i) The first PPE after 1,000 CSN, or

(ii) Within 4,000 additional CIS after the effective date of this AD.

(4) For spools that have not been inspected in accordance with the requirements of ASB 72-A0719, Revision 4, dated January 31, 2002, or an earlier revision of ASB 72-A0719 inspect the dovetail slot bottom in accordance with the requirements of ASB 72-A0719, Revision 4, dated January 31, 2002, at the earlier of:

(i) The first PPE after 1,000 CSN, or

(ii) Within 4,000 additional CIS after the effective date of this AD.

Repetitive Inspection

(5) For spools that have already been inspected using one of the ASB's or SB's listed in Column A of Table 7; OR a combination of one procedure from Column B AND one from Column C; OR a combination of one procedure from Column D AND one from Column E, inspect hub and bore in accordance with ASB CF6-50 72-A0678, Revision 4, dated June 6, 2001, at the earliest of:

(i) Each PPE with more than 1,000 CSLI and 5,000 CSN, or

(ii) From July 29, 2001 through January 27, 2003, before the cycle limits of Table 6.

(iii) After January 27, 2003, before the cycle limits of the following Table 8:

Table 8
CSN at last inspection | Reinspect by
(A) 1,500 or fewer CSN | 5,000 CSN
(B) 1,501 to 5,000 CSN | 3,500 CSLI
(C) 5,001 to 5,500 CSN | 8,500 CSN
(D) 5,501 to 6,501 CSN | 3,000 CSLI
(E) 6,501 to 7,000 CSN | 9,500 CSN
(F) 7,001 to 8,000 CSN | 2,500 CSLI
(G) 8,001 to 8,500 CSN | 10,500 CSN
(H) 8,501 or more CSN | 2,000 CSLI

(6) If inspection findings equal or exceed the reject limits established by ASB 72-A0678, Revision 4, dated June 6, 2001; or ASB 72-A0691, Revision 4, dated June 6, 2001; or ASB A0719, Revision 4, dated January 31, 2002; replace spool before further flight.

(7) After the effective date of this AD, do not install any engine that has an HPCR stage 3-9 spool, P/N's 9136M89G20, 9136M89G21, 9136M89G22 and 9136M89G27, installed where the spool has 10,500 or more CSN.

CF6-80A 8-Inch Billet 2-Piece Spools

(h) For CF6 HPCR stage 3-9 spool, P/N 9136M89G28, do the following:

(1) If the spool has not already been inspected using one of the ASB's or SB's listed in Column A of Table 7; OR a combination of one procedure from Column B AND one from Column C; OR a combination of one procedure from Column D AND one from Column E, inspect hub and bore in accordance with ASB 72-A0678, Revision 4, dated June 6, 2001, at the earlier of:

(i) The first PPE after 1,000 CSN, or

(ii) The first ESV after 6,000 CSN.

(2) For spools that have not been inspected in accordance with the requirements of ASB 72-A0691, Revision 4, dated June 6, 2001, or an earlier revision of ASB 72-A0691, or SB 72-0691, inspect the web and hub-to-web transition areas in accordance with the requirements of ASB 72-A0691, Revision 4, dated June 6, 2001, at the earlier of:

(i) The first PPE after 1,000 CSN, or

(ii) The first ESV after 6,000 CSN.

(3) For spools that have not been inspected in accordance with the requirements of ASB 72-A0719, Revision 4, dated January 31, 2002, or an earlier revision of ASB 72-A0719 inspect the stage 3-5 dovetail slot bottom in accordance with the requirements of ASB 72-A0719, Revision 4, dated January 31, 2002, at the earlier of:

(i) The first PPE after 1,000 CSN, or

(ii) The first ESV after 6,000 CSN.

(4) If inspection findings equal or exceed the reject limits established by ASB 72-A0678, Revision 4, dated June 6, 2001; or ASB 72-A0691, Revision 4, dated June 6, 2001; or ASB 72-A0719, Revision 4, dated January 31, 2002; replace spool before further flight.

CF6-80C2 13-inch billet spools

(i) For CF6 HPCR stage 3-9 spool, P/N's 1781M52P01, 1854M95P02, 1854M95P05 and 9380M28P05, do the following:

Initial Inspection

(1) If the spool has not already been inspected using one of the ASB's or SB's listed in Column A of the following Table 9; OR a combination of one procedure from Column B and one from Column C; OR a combination of one procedure from Column D and one from Column E, inspect hub and bore in accordance with ASB 72-A0812, Revision 3, dated June 6, 2001, and the following compliance times:

Table 9
CF6-80C2 SB No.: Column A | Procedures (70-32-XX) in standard practices manual GEK9250: Column B | Procedures (70-32-XX) in standard practices manual GEK9250: Column C | Procedures (70-32-XX) in standard practices manual GEK9250: Column D | Procedures (70-32-XX) in standard practices manual GEK9250: Column E
SB 72-418, Revision 2, May 14, 1991 | 70-32-09, Revision 71, dated October 1, 1995 | 70-32-10, Revision 71, dated October 1, 1995 | 70-32-13, Temporary Revision (TR), 70-25, dated August 26, 1996 | 70-32-14, TR 70-26, dated August 26, 1996
SB 72-418, Revision 3, November 7, 1994 | 70-32-09, Revision 72, dated November 15, 1996 | 70-32-10, Revision 72, dated November 15, 1996 | 70-32-13, Revision 72, dated November 15, 1996 | 70-32-14, Revision 72, dated November 15, 1996
SB 72-418, Revision 4, December 22, 1995 | 70-32-09, Revision 74, dated May 1, 1998 | 70-32-10, Revision 74, dated May 1, 1998 | 70-32-13, Revision 73, dated November 1, 1997 | 70-32-14, Revision 73, dated November 1, 1997
SB 72-758, Original, dated November 7, 1994 |  | 70-32-10, Revision 75, dated December 15, 1998 | 70-32-13, Revision 75, dated December 15, 1998 | 70-32-14, Revision 75, dated December 15, 1998
SB 72-758, Revision 1, dated December 22, 1995 |  |  | 70-32-13, TR 70-41, dated February 10, 1999 | 70-32-14, TR 70-42, dated February 10, 1999
SB 72-812, Original, dated November 6, 1995 |  |  | 70-32-13, Revision 76, dated May 15, 1999 | 70-32-14, Revision 76, dated May 15, 1999
SB 72-812, Revision 1, dated January 30, 1998 |  |  | 70-32-17, TR 70-39, dated December 15, 1998 | 70-32-18, TR 70-40, dated December 15, 1998
ASB 72-A0812, Revision 2, dated October 28, 1999 |  |  | 70-32-17, Revision 76, dated May 15, 1999 | 70-32-18, Revision 76, dated May 15, 1999
ASB 72-A0812, Revision 3, dated June 6, 2001 |  |  | 70-32-17, TR 70-47, dated October 28, 1999 | 70-32-18, TR 70-48, dated October 28, 1999

(i) For spools with greater than 3,500 CSN on the effective date of this AD, inspect before further flight.

(ii) For spools with 3,500 or fewer CSN on the effective date of this AD, inspect at the first PPE after 1,000 CSN or before 3,500 CSN, whichever occurs earlier.

(2) For spools that have not been inspected in accordance with the requirements of ASB 72-A0848, Revision 7, dated June 6, 2001, or an earlier revision of ASB 72-A0848, or SB 72-0848, inspect the web and hub-to-web transition areas in accordance with the requirements of ASB 72-A0848, Revision 7, dated June 6, 2001, at the earliest of:

(i) The first PPE after 1000 CSN, or

(ii) The next required inspection to ASB 72-A0812, Revision 3, dated June 6, 2001, or

(iii) From July 29, 2001 through January 27, 2003, before 7,000 CSN, and after January 27, 2003, before 3,500 CSN.

(3) For spools that have not been inspected in accordance with the requirements of ASB 72-A0934, Revision 3, dated January 31, 2002, or an earlier revision of ASB 72-A0934, inspect the stage 3-5 dovetail slot bottom in accordance with the requirements of ASB 72-A0934, Revision 3, dated January 31, 2002, at the earliest of:

(i) The first PPE after 1,000 CSN, or

(ii) The first HPCR exposure after 1,000 CSN, or

(iii) The next required inspection to ASB 72-A0812, Revision 3, dated June 6, 2001

Repetitive Inspection

(4) For spools that have already been inspected using one of the ASB's or SB's listed in Column A of Table 9; OR a combination of one procedure from Column B AND one from Column C; OR a combination of one procedure from Column D AND one from Column E, inspect the hub and bore in accordance with ASB 72-A812, Revision 3, dated June 6, 2001, the web and hub-to-web transition areas in accordance with ASB 72-A0848, Revision 7, dated June 6, 2001, and the stage 3-5 dovetail slot bottoms in accordance with ASB 72-A0934 Revision 3, dated January 31, 2002, at the earliest of:

(i) Each PPE with more than 1,000 CSLI and 3,500 CSN, or

(ii) From July 29, 2001, through January 27, 2003, before the cycle limits of Table 4.

(iii) After January 27, 2003, before the cycle limits of Table 5.

(5) If inspection findings equal or exceed the reject limits established by ASB 72-A0812, Revision 3, dated June 6, 2001, or ASB 72-A0848, Revision 7, dated June 6, 2001, or ASB 72-A0934, Revision 3, dated January 31, 2002; replace spool before further flight.

(6) After the effective date of this AD, do not install any engine that has an HPCR stage 3-9 spool, P/N's 1781M52P01, 1854M95P02, 1854M95P05 and 9380M28P05, installed where the spool has 10,500 or more CSN.

CF6-80C2 9&10-inch billet spools

(j) For CF6 HPCR stage 3-9 spool, P/Ns 1333M66G01, 1333M66G03, 1333M66G07, 1333M66G09, 1781M53G01, 1854M95P01, 1854M95P03, 1854M95P04, 1854M95P06 and 1854M95P07, do the following:

Initial Inspection

(1) If the spool has greater than 7,000 CSN on the effective date of this AD and has not already been inspected using one of the ASB's or SB's listed in Column A of Table 9; OR a combination of one procedure from Column B AND one from Column C; OR a combination of one procedure from Column D AND one from Column E, and if the spool has not been inspected in accordance with ASB 72-A0848, Revision 7, dated June 6, 2001, or an earlier revision of ASB 72-A0848, or SB 72-0848, inspect the hub and bore in accordance with ASB CF6-50 72-A0812, Revision 3, dated June 6, 2001; and the web and hub-to-web transition areas in accordance with ASB 72-A0848, Revision 7, dated June 6, 2001, before further flight.

(2) If the spool has 7,000 or fewer CSN on the effective date of this AD, and has not already been inspected using one of the ASB's or SB's listed in Column A of Table 9; OR a combination of one procedure from Column B AND one from Column C; OR a combination of one procedure from Column D AND one from Column E, and if the spool has not been inspected in accordance with ASB 72-A0848, Revision 7, dated June 6, 2001, or an earlier revision of ASB 72-A0848, or SB 72-0848, inspect the hub and bore in accordance with ASB CF6-50 72-A0812, Revision 3, dated June 6, 2001; and the web and hub-to-web transition areas in accordance with ASB 72-A0848, Revision 7, dated June 6, 2001, at the earliest of:

(i) The first PPE after 1,000 CSN, or

(ii) The first ESV after 3,000 CSN, or

(iii) From July 29, 2001, through January 27, 2003, before 7,000 CSN, and after January 27, 2003, before 3,500 CSN.

(3) For spools that have not been inspected in accordance with the requirements of ASB 72-A0934, Revision 3, dated January 31, 2002, or an earlier revision of ASB 72-A0934, inspect the stage 3-5 dovetail slot bottom in accordance with the requirements of ASB 72-A0934, Revision 3, dated January 31, 2002, at the earlier of:

(i) The first PPE after 1,000 CSN, or

(ii) Within 4,000 additional CIS after the effective date of this AD.

Repetitive Inspection

(4) For spools that have already been inspected using one of the ASB's or SB's listed in Column A of Table 9; OR a combination of one procedure from Column B AND one from Column C; OR a combination of one procedure from Column D AND one from Column E, inspect the hub and bore in accordance with the requirements of ASB 72-A0812, Revision 3, dated June 6, 2001, and the web and hub-to-web transition areas in accordance with ASB 72-A0848, Revision 7, dated June 6, 2001, at the earlier of:

(i) Each PPE with more than 1,000 CSLI and 3,500 CSN, or

(ii) From July 29, 2001, through January 27, 2003, before the cycle limits of Table 6, and after January 27, 2003, before the cycle limits of Table 5.

(5) If inspection findings equal or exceed the reject limits established by ASB 72-A0812, Revision 3, dated June 6, 2001, or ASB 72-A0848, Revision 7, dated June 6, 2001, or ASB 72-A0934, Revision 3, dated January 31, 2002; replace spool before further flight.

(6) After the effective date of this AD, do not install any engine that has an HPCR stage 3-9 spool, P/N's 1333M66G01, 1333M66G03, 1333M66G07, 1333M66G09, 1781M53G01, 1854M95P01, 1854M95P03, 1854M95P04, 1854M95P06 and 1854M95P07, installed where the spool has 10,500 or more CSN.

CF6-80C2 8-inch billet 2-piece spools

(k) For CF6 HPCR stage 3-9 spool, P/N's 1333M66G10 and 1854M95P08, do the following:

(1) If the spool has not already been inspected using one of the ASB's or SB's listed in Column A of Table 9; OR a combination of one procedure from Column B AND one from Column C; OR a combination of one procedure from Column D AND one from Column E, inspect hub and bore in accordance with ASB 72-A0812, Revision 3, dated June 6, 2001, at the earlier of:

(i) The first PPE after 1,000 CSN, or

(ii) The first ESV after 6,000 CSN.

(2) For spools that have not been inspected in accordance with the requirements of ASB 72-A0848, Revision 7, dated June 6, 2001, or an earlier revision of ASB 72-A0848, or SB 72-0848, inspect the web and hub-to-web transition areas in accordance with the requirements of ASB 72-A0848, Revision 7, dated June 6, 2001, at the earlier of:

(i) The first PPE after 1,000 CSN, or

(ii) The first ESV after 6,000 CSN.

(3) For spools that have not been inspected in accordance with the requirements of ASB 72-A0934, Revision 3, dated January 31, 2002, or an earlier revision of ASB 72-A0934, inspect the stage 3-5 dovetail slot bottom in accordance with the requirements of ASB 72-A0934, Revision 3, dated January 31, 2002, at the earlier of:

(i) The first PPE after 1,000 CSN, or

(ii) The first ESV after 6,000 CSN.

(4) If inspection findings equal or exceed the reject limits established by ASB 72-A0812, Revision 3, dated June 6, 2001, or ASB 72-A0848, Revision 7, dated June 6, 2001, or ASB 72-A0934, Revision 3, dated January 31, 2002; replace spool before further flight.

CF6-80E1 9&10-inch billet spools

(1) For CF6 HPCR stage 3-9 spool, P/N's 1669M22G01, 1669M22G03, 1782M22G01 and 1782M22G02, do the following:

Initial Inspection

(1) If the spool has greater than 7,000 CSN and has not already been inspected using one of the ASB's listed in Column A of the following Table 10; OR a combination AND of one procedure from Column B AND one from Column C; OR a combination of one procedure from Column D AND one from Column E, and if the spool has not been inspected in accordance with ASB 72-A0126, Revision 5, dated June 6, 2001, or an earlier revision of ASB 72-A0126, or SB 72-0126, inspect the hub and bore in accordance with ASB CF6-50 72-A0135, Revision 2, dated June 6, 2001; and the web and hub-to-web transition areas in accordance with ASB 72-A0126, Revision 5, dated June 6, 2001, before further flight.

Table 10
CF6-80E1 SB No.: Column A | Procedures (70-32-XX) in standard practices manual GEK9250: Column B | Procedures (70-32-XX) in standard practices manual GEK9250: Column C | Procedures (70-32-XX) in standard practices manual GEK9250: Column D | Procedures (70-32-XX) in standard practices manual GEK9250: Column E
ASB 72-A0135, dated August 13, 1998 | 70-32-09, Revision 71, dated October 1, 1995 | 70-32-10, Revision 71, dated October 1, 1995 | 70-32-13, Temporary Revision (TR), 70-25, dated August 26, 1996 | 70-32-14, TR 70-26, dated August 26, 1996
ASB 72-A0135, Revision 1, dated October 28, 1999 | 70-32-09, Revision 72, dated November 15, 1996 | 70-32-10, Revision 72, dated November 15, 1996 | 70-32-13, Revision 72, dated November 15, 1996 | 70-32-14, Revision 72, dated November 15, 1996
ASB 72-A0135, Revision 2, dated June 6, 2001 | 70-32-09, Revision 74, dated May 1, 1998 | 70-32-10, Revision 74, dated May 1, 1998 | 70-32-13, Revision 73, dated November 1, 1997 | 70-32-14, Revision 73, dated November 1, 1997
|  | 70-32-10, Revision 75, dated December 15, 1998 | 70-32-13, Revision 75, dated December 15, 1998 | 70-32-14, Revision 75, dated December 15, 1998
|  |  | 70-32-13, TR 70-41, dated February 10, 1999 | 70-32-14, TR 70-42, dated February 10, 1999
|  |  | 70-32-13, Revision 76, dated May 15, 1999 | 70-32-14, Revision 76, dated May 15, 1999
|  |  | 70-32-17, TR 70-39, dated December 15, 1998 | 70-32-18, TR 70-40, dated December 15, 1998
|  |  | 70-32-17, Revision 76, dated May 15, 1999 | 70-32-18, Revision 76, dated May 15, 1999
|  |  | 70-32-17, TR 70-47, dated October 28, 1999 | 70-32-18, TR 70-48, dated October 28, 1999

(2) If the spool has 7,000 or fewer CSN and has not already been inspected using one of the ASB's listed in Column A of Table 10; OR a combination of one procedure from Column B AND one from Column C; OR a combination of one procedure from Column D AND one from Column E, and if the spool has not been inspected in accordance with ASB 72-A0126, Revision 5, dated June 6, 2001, or an earlier revision of ASB 72-A0126, or SB 72-0126, inspect the hub and bore in accordance with ASB CF6-50 72-A0135, Revision 2, dated June 6, 2001; and the web and hub-to-web transition areas in accordance with ASB 72-A0126, Revision 5, dated June 6, 2001, at the earliest of:

(i) The first PPE after 1,000 CSN, or

(ii) The first ESV after 3,000 CSN, or

(iii) From July 29, 2001, through January 27, 2003, before 7,000 CSN, and after January 27, 2003, before 3,500 CSN.

(3) Spools not previously inspected in accordance with the requirements of ASB 72-A0137, Revision 3, dated January 31, 2002, or an earlier revision of ASB 72-0137, or SB 72-0137, inspect stage 3-5 dovetail slot bottoms in accordance with the requirements of ASB 72-A0137, Revision 3, dated January 31, 2002, at the earliest of:

(i) The first PPE after 1,000 CSN, or

(ii) The first HPCR exposure after 1,000 CSN, or

(iii) The next required inspection to ASB 72-A0135, Revision 2, dated June 6, 2001.

Repetitive Inspection

(4) For spools that have already been inspected using one of the ASB's listed in Column A of Table 10; OR a combination of one procedure from Column B AND one from Column C; OR a combination of one procedure from Column D AND one from Column E, inspect the hub and bore in accordance with the requirements of ASB 72-A0135, Revision 2, dated June 6, 2001, the web and hub-to-web transition areas in accordance with ASB 72-A0126, Revision 5, dated June 6, 2001, and the stage 3-5 dovetail slot bottoms in accordance with ASB 72-A0137, Revision 3, dated January 31, 2002, at the earlier of:

(i) Each PPE with more than 1,000 CSLI and 3,500 CSN, or

(ii) From July 29, 2001, through January 27, 2003, before the cycle limits of Table 6, and after January 27, 2003, before the cycle limits of Table 5.

(5) If inspection findings equal or exceed the reject limits established by ASB 72-A0135, Revision 2, dated June 6, 2001; ASB 72-A0126, Revision 5, dated June 6, 2001; and ASB 72-A0137, Revision 3, dated January 31, 2002; replace spool before further flight.

(6) After the effective date of this AD, do not install any engine that has an HPCR stage 3-9 spool, P/N's 1669M22G01, 1669M22G03, 1782M22G01 and 1782M22G02, installed where the spool has 10,500 or more CSN.

CF6-80E1 8-inch billet 2-piece spools

(m) For CF6 HPCR stage 3-9 spool, P/N 1782M22G04, do the following:

(1) If the spool has not already been inspected using one of the ASB's or SB's listed in Column A of the following Table 9; OR a combination of one procedure from Column B AND one from Column C; OR a combination of one procedure from Column D AND one from Column E, inspect hub and bore in accordance with ASB 72-A0135, Revision 2, dated June 6, 2001, at the earlier of:

(i) The first PPE after 1,000 CSN, or

(ii) The first ESV after 6,000 CSN.

(2) For spools that have not been inspected in accordance with the requirements of ASB 72-A0126, Revision 5, dated June 6, 2001, or an earlier revision of ASB 72-A0126, or SB 72-0126, inspect the web and hub-to-web transition areas in accordance with ASB 72-A0126, Revision 5, dated June 6, 2001, at the earlier of:

(i) The first PPE after 1,000 CSN, or

(ii) The first ESV after 6,000 CSN.

(3) For spools that have not been inspected in accordance with the requirements of ASB 72-A0137, Revision 3, dated January 31, 2002, or an earlier revision of ASB 72-A0137, or SB 72-0137, inspect the stage 3-5 dovetail slot bottoms in accordance with ASB 72-A0137, Revision 3, dated January 31, 2002, at the earlier of:

(i) The first PPE after 1,000 CSN, or

(ii) The first ESV after 6,000 CSN.

(4) If inspection findings equal or exceed the reject limits established by ASB 72-A0135, Revision 2, dated June 6, 2001; ASB 72-A0126, Revision 5, dated June 6, 2001; and ASB 72-A0137, Revision 3, dated January 31, 2002; replace spool before further flight.

Reporting Requirements

(n) Within five calendar days of inspection, report the results of inspections that equal or exceed the reject criteria to: Engine Certification Office, FAA, Engine and Propeller Directorate, 12 New England Executive park, Burlington, MA 01803-5299; telephone (781) 238-7147. Reporting requirements have been approved by the Office of Management and Budget and assigned OMB control number 2120-0056. Be sure to include the following information:

(1) Part Number

(2) Serial Number

(3) Spool CSN

(4) Spool CSLI

(5) Date and location where inspection was done.

Definitions

(o) For the purpose of this AD, the following definitions apply:

(1) A module level exposure is a separation of the fan module from the engine.

(2) An HPC rotor exposure is a HPC top or bottom case removal.

(3) A PPE is a disassembly and removal of the stage 3-9 spool from the HPCR structure, regardless of any blades, locking lugs, bolts or balance weights assembled to the spool.

(4) An ESV is the introduction of an engine into the shop where the separation of a major engine flange will occur after the effective date of this AD.

(5) The following maintenance actions, or any combination, are not considered ESV's for requiring repeat inspections:

(i) Introduction of an engine into a shop solely for removal of the compressor top or bottom case for airfoil maintenance.

(ii) Introduction of an engine into a shop solely for removal or replacement of the Stage 1 Fan Disk.

(iii) Introduction of an engine into a shop solely for replacement of the Turbine Rear Frame.

(iv) Introduction of an engine into a shop solely for replacement of the Accessory and/or Transfer Gearboxes.

(v) Introduction of an engine into a shop solely for replacement of the Fan Forward Case.

Alternative Methods of Compliance

(p) An alternative method of compliance or adjustment of the compliance time that provides an acceptable level of safety may be used if approved by the Manager, Engine Certification Office (ECO). Operators must submit their request through an appropriate FAA Principal Maintenance Inspector, who may add comments and then send it to the Manager, ECO.

Note 2: Information concerning the existence of approved alternative methods of compliance with this airworthiness directive, if any, may be obtained from the ECO.

Special Flight Permits

(q) Special flight permits may be issued in accordance with §§ 21.197 and 21.199 of the Federal Aviation Regulations (14 CFR 21.197 and 21.199) to operate the airplane to a location where the requirements of this AD can be done.

Issued in Burlington, Massachusetts, on June 5, 2002.
Francis A. Favara,
Acting Manager, Engine and Propeller Directorate, Aircraft Certification Service.

[FR Doc. 02-14700 Filed 6-11-02; 8:45 am]

BILLING CODE 4910-13-P